DEPARTMENT OF COMMERCE

International Trade Administration

[C-570-921]

Lightweight Thermal Paper From the People's Republic of China: Rescission of Countervailing Duty Administrative Review

AGENCY: Import Administration, International Trade Administration, Department of Commerce.

DATES: Effective Date: May 10, 2012.

FOR FURTHER INFORMATION CONTACT: Michael Chappell or Mary Kolberg, AD/CVD Operations, Office 1, Import Administration, International Trade Administration, U.S. Department of Commerce, 14th Street and Constitution Avenue NW., Washington, DC 20230; telephone: (202) 482-3124 or (202) 482-1785, respectively.

SUPPLEMENTARY INFORMATION:

Background

On November 1, 2011, the Department of Commerce (“the Department”) published a notice announcing the opportunity to request an administrative review of the countervailing duty order on lightweight thermal paper from the People's Republic of China for the period of January 1, 2010, through December 31, 2010. See Antidumping or Countervailing Duty Order, Finding, or Suspended Investigation; Opportunity to Request Administrative Review, 76 FR 67413 (November 1, 2011). On November 30, 2011, in accordance with 19 CFR 351.213(b), the Department received a timely request from Appleton Papers, Inc., the petitioner, to conduct an administrative review of Guandong Guanhao High-Tech Co., Ltd. (“Guanhao”).

On December 30, 2011, the Department published a notice of initiation of a countervailing duty administrative review of Guanhao. See Initiation of Antidumping and Countervailing Duty Administrative Reviews and Request for Revocation in Part, 76 FR 82268 (December 30, 2011).

Rescission of Administrative Review

Pursuant to 19 CFR 351.213(d)(1), the Secretary will rescind an administrative review, in whole or in part, if the party that requested the review withdraws the request within 90 days of the date of publication of the notice of initiation of the requested review. On March 29, 2012, the petitioner withdrew its request for review within the 90-day period. No other party requested a review of Guanhao. Therefore, pursuant in response to the petitioner's timely withdrawal request, the Department is rescinding this administrative review.

Assessment

The Department will instruct U.S. Customs and Border Protection (“CBP”) to assess countervailing duties on all appropriate entries. For Guanhao, countervailing duties shall be assessed at rates equal to the cash deposit rate in effect on the date of entry, or withdrawal from warehouse, for consumption, in accordance with 19 CFR 351.212(c)(1)(i). The Department intends to issue appropriate assessment instructions to CBP 15 days after publication of this notice of rescission of administrative review.

Notification Regarding Administrative Protective Order

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: May 3, 2012.
Christian Marsh,
Deputy Assistant Secretary or Antidumping and Countervailing Duty Operations.

[FR Doc. 2012-11344 Filed 5-9-12; 8:45 am]

BILLING CODE 3510-DS-P